Title 3—

The President

Memorandum of October 20, 2015

Delegation of Authority for Drafting and Submission of the International Trade Data System Annual Report to the Congress

Memorandum for the Secretary of Homeland Security

By the authority vested in me as President by the Constitution and the laws of the United States of America, including section 301 of title 3, United States Code, I hereby delegate to you the reporting function conferred upon the President by section 405 of the SAFE Port Act of 2006, Public Law 109-347.

You are authorized and directed to publish this memorandum in the Federal Register.

THE WHITE HOUSE,

Washington, October 20, 2015

[FR Doc. 2015-27167

Filed 10-22-15; 8:45 am]

Billing code 4410-10-P